DEPARTMENT OF AGRICULTURE

Forest Service

Shasta-Trinity National Forest, California; Pettijohn LSR Habitat Improvement and Fuels Reduction Project

AGENCY: Forest Service, USDA.

ACTION: Notice of intent to prepare an environmental impact statement.

SUMMARY: The Shasta-Trinity National Forest (STNF) will prepare an environmental impact statement (EIS) to document and publicly disclose the environmental effects of implementing a hazardous fuels reduction project on approximately 3200 acres of National Forest System lands. Located within an area known as the Pettijohn portion of the Clear Creek Late Successional Reserve (LSR) the proposed project would provide the LSR with enhanced protection from catastrophic wildfire, increased fire fighter safety and habitat improvement for wildlife species associated with old-growth ecosystems, including the Threatened northern spotted owl, Strix occidentalis caurina. The proposal includes thinning trees from below in overcrowded stands and in proposed Fuel Management Zones (FMZs). Most thinning would be accomplished through commercial timber harvest of sawtimber and biomass (chips). Road decommissioning is proposed on approximately 2.3 miles of road and road reconstruction is proposed on approximately 2 miles of existing roads to improve drainage and reduce erosion. No new system roads would be constructed. The Pettijohn LSR Habitat Improvement and Fuels Reduction Project is located south of Trinity Lake near the communities of Lewiston and Weaverville, California in sections 5-9, 16-21, 28, 32, and 33 in T34N, R8W; sections 48, 17, and 18 in T33N, R8W; and sections 1, 2, 9, 10, 12, 13, and 24 in T34N, R9W (Mt. Diablo Meridian).

DATES: Comments concerning the scope of the analysis must be received by no later than 30 days from date of publication of this notice in the Federal Register. The draft environmental impact statement is expected in May 2009 and the final environmental impact statement is expected in November 2009.

ADDRESSES: Send written comments to: Pettijohn Project c/o Thomas A. Quinn, Shasta-Trinity National Forest, Weaverville Ranger District, P.O. Box 1190, Weaverville, CA 96093, (530) 623-1758. Comments may also be sent via e-mail to: comments-pacificsouthwest-shasta-trinity@fs.fed.us.

Comments received in response to this solicitation, including names and addresses of those who comment, will be part of the public record for this proposed action. Comments submitted anonymously will be accepted and considered; however, anonymous comments will not provide the respondent with standing to appeal the subsequent decision.

FOR FURTHER INFORMATION CONTACT: Thomas A. Quinn, Wildlife Biologist, Shasta-Trinity National Forest, Weaverville Ranger District, P.O. Box 1190, Weaverville, CA 96093, (530) 623-1758, taquinn@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of the proposed action is to enhance and protect habitat for wildlife species associated with old-growth forest ecosystems, particularly the northern spotted owl (NSO) in the Clear Creek LSR.

The Clear Creek LSR is currently dominated by dense, mature (approximately 80 to 110 years old) conifer forest and contains less than the desired amount of old-growth habitat. A combination of historic logging and fire suppression has resulted in dense forests, tree species compositions, age-class structures and fuel conditions that are highly conducive to crown fires and reduced fire suppression effectiveness. The growth of potential and existing large tree components has been slowed and their natural resistance to mortality from pathogens, insects and fire has been endangered as a result of dense forest conditions. Because of existing ladder fuels, there is a high probability that a fire start within or adjacent to the project area would result in the loss of existing and developing old-growth habitat in the LSR. Because of fuels conditions, the use of prescribed fire by itself to achieve lower fuel loading is currently not safe or feasible.

Coordinated analyses conducted by the Forest Service and the U.S. Fish and Wildlife Service concluded that current habitat conditions in the Clear Creek LSR are insufficient to maintain the 20 pairs of breeding owls established in the northern spotted owl conservation strategy. The Clear Creek LSR Assessment identifies thinning overstocked young to mature conifer stands as a high priority treatment for managing forests within the LSR. Thinning stands and implementing fuel treatments would reduce fire hazard and risk, accelerate growth, and help to enhance and protect developing and existing large tree components within LSR forest stands.

The project is authorized under the Healthy Forest Restoration Act of 2003 (HFRA) for projects with a defined purpose of enhancing the protection of NSO and NSO critical habitat from catastrophic wildland fire. The proposed project is also being developed within the over-arching recommendations of the Trinity County Community Wildfire Protection Plan.

Proposed Action

The proposed action would meet the purpose and need by thinning from below in mature forests and thinning from below to create fuel management zones (FMZs) at strategic locations where they will tie in with existing FMZs. Fuels reduction treatments within the FMZs would help to reduce fire risk and hazard and provide for fire fighter safety. The proposed action also includes prescribed burning on approximately 101 acres and hand fuels treatment on approximately 11 acres to reduce fire risk in high-use areas. Road decommissioning is proposed on 2.3 miles to reduce road densities.

1. Thinning From Below: The proposed thinning would be applied on approximately 1,155 acres of overly dense conifer stands to accelerate the development of desired old-growth characteristics. The thinning would also decrease fuel levels to reduce the risk of losing these and adjacent stands to crown fires. The largest and healthiest trees, including trees with large cavities and other types of deformities (decadence) and viable hardwoods, would be retained. A sufficient number of trees would be removed to maintain or increase growth rates of the mature trees, reduce competition for the largest/oldest trees prolonging their persistence in the stands, and remove fuel ladders to a level where ground fires are less likely to climb to the upper canopy. Trees marked for removal will start with the smallest, least healthy conifers progressively including larger trees until the existing 70 to 90+ percent canopy cover is reduced to approximately 40 to 60 percent to make more water, nutrients, sunlight and growing space available to the remaining trees (conifers as well as hardwoods). Approximately 123 acres of Riparian Reserve (RR) are included in proposed thinning units; within RR the canopy would not be reduced below 60 percent. Biological legacies such as large/old green trees and other old-growth structural components (large snags, logs, viable hardwoods, etc.) would be retained within each thinning unit to provide these habitat components as the stand develops. Stands within 150 feet of roads identified as FMZ are included in proposed thinning units. To improve effectiveness of FMZs, the preliminary proposed action includes removing hazard trees within portions of thinning units directly adjacent to FMZ networks (about 149 acres of the total 1,155 acres proposed for thinning).

2. FMZ Treatments: A network of FMZs is proposed on approximately 1,995 acres to support the effectiveness and safety of future fire suppression, and/or prescribed fire. They would provide a potential point of control for future fire occurrence. These linear FMZs range from 300 feet wide (roadside) to approximately 600 or 1,200 feet wide (expanded) and are centered along approximately 36 miles of strategically located roads at the perimeter of the fireshed and within the LSR. Within overstocked stands adjacent to the identified roads within FMZ, small diameter understory (fuel ladder) trees (<11″ diameter at breast height (DBH)) would be reduced to roughly a 20 foot spacing and live and dead hazardous trees that could pose a danger to fire fighters would be removed. The perimeter FMZs tie in with roadside fuels projects already completed along State Highway 3 and County Road 204.

3. Fuel Reduction in High Risk Areas: The proposed action includes prescribed burning of dense brush surrounding a popular fishing access area at the east edge of the project area (approximately 101 acres), and hand thinning/piling/burning around a public rest area at the west edge of the project area along State Highway 3 (approximately 11 acres). Treatment of these areas would improve the effectiveness of the FMZ.

4. Road Decommissioning: The Roads Analysis Process (RAP) completed for the Pettijohn LSR Project area identified approximately 2.3 miles of little-used roads that are having negative effects on fish and water quality, or are disproportionately difficult to maintain. Decommissioning involves removing culverts, ripping and out-sloping road surfaces, and closure. The goal is to control surface runoff, erosion, and mass failure while making the road unavailable for future use.

5. Landing Construction: Up to an estimated maximum 39 temporary landings would be constructed, however, existing landings in the project area are preferred and would be reused whenever possible. No trees greater than 24 inches DBH would be cut for landings. New landings will not be constructed within Riparian Reserves (RR). Landings that currently exist in RR will be reused where they would require less ground disturbance than new construction.

Responsible Official

J. Sharon Heywood, Forest Supervisor, Shasta-Trinity National Forest.

Nature of Decision To Be Made

The Forest Supervisor will decide whether to implement the proposed action, take an alternative action that meets the purpose and need or take no action. The decision may include a non-significant amendment to modify the Shasta-Trinity Land and Resource Management Plan on page 4-37 “Guidelines to Reduce Risks of Large-Scale Disturbance” by adding the following statement: “For the Pettijohn LSR Project, harvest is allowed within stands over 80 years old.”

Preliminary Issues

Preliminary issues raised during the collaboration process included snag retention, cutting trees over 80 years old, equipment crossing of RR, and the non-significant plan amendment.

Scoping Process and Comment Requested

This notice of intent initiates the scoping process for the Pettijohn LSR Project, which will guide the development of the environmental impact statement. The project is included in the Shasta-Trinity National Forest's quarterly schedule of proposed actions (SOPA). Information on the proposed action will also be posted on the forest website at: http://www.fs.fed.us/rS/shastatrinity/projects/trmu-projects.shtml. Comments submitted during this scoping process should be in writing and should be specific to the proposed action. The comments should describe as clearly and completely as possible any issues the conmentor has with the proposal. The scoping process includes:

(a) Identifying potential issues.

(b) Identifying issues to be analyzed in depth.

(c) Eliminating non-significant issues or those previously covered by a relevant previous environmental analysis.

(d) Exploring additional alternatives.

(e) Identifying potential environmental effects of the proposed action and alternatives. It is important that reviewers provide their comments at such times and in such manner that they are useful to the agency's preparation of the environmental impact statement. Therefore, comments should be provided prior to the close of the comment period and should clearly articulate the reviewer's concerns and contentions. The submission of timely and specific comments can affect a reviewer's ability to participate in subsequent administrative appeal or judicial review.

HFRA Process

During October and November, 2008 the STNF sent out letters and notices requesting collaboration and inviting the public, federal, state and local agencies, tribes and non governmental organizations to participate in an HFRA meeting for the Proposed Action. The HFRA meeting was held November 12, 2008 at the Community Center in Lewiston, CA. The notice for the meeting was published in The Trinity Journal, Weaverville's weekly local newspaper and The Record Searchlight, the newspaper of record, located in Redding, CA. The notices were published in both papers on October 21st and November 2008. Comments and suggestions provided by persons at the meeting and submitted by persons who were unable to attend the meeting were used, in part, to design the Proposed Action. The project is consistent with the HFRA 2003, which contains provisions to expedite hazardous fuels reduction and forest restoration projects on federal lands that are at risk to wildland fire or insect and disease epidemics. Projects authorized under HFRA are defined under Section 102(a)(5)(B) of the act and are designed to actively involve the public in reducing the risk of catastrophic fire to communities and protecting threatened and endangered species habitat.

A USDA Forest Service interdisciplinary team designed a preliminary proposed action. Further collaborative efforts in conjunction with National Environmental Policy Act (NEPA) processes may result in further modifications to this proposed action. If significant issues are raised that cannot be addressed by modifying the proposed action, the Forest may develop other action alternatives.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

(Authority: 40 CFR 1501.7 and 1508.22; Forest Service Handbook 1909.15, Section 21)

Dated: December 11, 2008.
J. Sharon Heywood,
Forest Supervisor, Shasta-Trinity National Forest.

[FR Doc. E8-30053 Filed 12-18-08; 8:45 am]

BILLING CODE 3410-11-M